DEPARTMENT OF HEALTH AND HUMAN SERVICES

National Institute for Occupational Safety and Health

Decision To Evaluate a Petition To Designate a Class of Employees for the United Nuclear Corp., Hematite, MO, To Be Included in the Special Exposure Cohort

AGENCY: National Institute for Occupational Safety and Health (NIOSH), Department of Health and Human Services (HHS).

ACTION: Notice.

SUMMARY: The Department of Health and Human Services (HHS) gives notice as required by 42 CFR 83.12(e) of a decision to evaluate a petition to designate a class of employees for the United Nuclear Corp., Hematite, Missouri, to be included in the Special Exposure Cohort under the Energy Employees Occupational Illness Compensation Program Act of 2000. The initial proposed definition for the class being evaluated, subject to revision as warranted by the evaluation, is as follows:

Facility: United Nuclear Corp.

Location: Hematite, Missouri.

Job Titles and/or Job Duties: All site employees.

Period of Employment: January 1, 1958 through December 31, 1969, and from January 1, 1970 through July 31, 2006 (residual radiation period).

FOR FURTHER INFORMATION CONTACT: Larry Elliott, Director, Office of Compensation Analysis and Support, National Institute for Occupational Safety and Health (NIOSH), 4676 Columbia Parkway, MS C-46, Cincinnati, OH 45226, Telephone 513-533-6800 (this is not a toll-free number). Information requests can also be submitted by e-mail to OCAS@CDC.GOV.

Dated: November 21, 2008.
Christine M. Branche,
Acting Director, National Institute for Occupational Safety and Health.

[FR Doc. E8-28201 Filed 11-26-08; 8:45 am]

BILLING CODE 4140-01-P